CONSUMER FINANCIAL PROTECTION BUREAU

[Docket No. CFPB-2026-0004]

Agency Information Collection Activities: Comment Request

AGENCY: Consumer Financial Protection Bureau.

ACTION: Notice and request for comment.

SUMMARY: In accordance with the Paperwork Reduction Act of 1995 (PRA), the Consumer Financial Protection Bureau (CFPB) requests the Office of Management and Budget's (OMB's) approval of an information collection titled “ICBA Disclosure Testing: Qualitative Pre-testing of Survey (Testing) Instrument and Modified Disclosure Forms.”

DATES: Written comments are encouraged and must be received on or before February 20, 2026 to be assured of consideration.

ADDRESSES: Written comments and recommendations for the proposed information collection should be sent within 30 days of publication of this notice to www.reginfo.gov/public/do/PRAMain. Find this particular information collection by selecting “Currently under 30-day Review—Open for Public Comments” or by using the search function. In general, all comments received will become public records, including any personal information provided. Sensitive personal information, such as account numbers or Social Security numbers, should not be included.

FOR FURTHER INFORMATION CONTACT: Requests for additional information should be directed to Anthony May, Paperwork Reduction Act Officer, at (202) 435-7278, or email: CFPB_PRA@cfpb.gov. If you require this document in an alternative electronic format, please contact CFPB_Accessibility@cfpb.gov. Please do not submit comments to these email boxes.

SUPPLEMENTARY INFORMATION:

Title of Collection: ICBA Disclosure Testing: Qualitative Pre-testing of Survey (Testing) Instrument and Modified Disclosure Forms.

OMB Control Number: 3170-00XX.

Type of Review: New information collection.

Affected Public: Individuals or households.

Estimated Number of Respondents: 2,000.

Estimated Total Annual Burden Hours: 1,500.

Abstract: The central research question that the Independent Community Bankers of America (ICBA) will be examining in the disclosure testing is whether the modified mortgage disclosures are more effective than current disclosures for a sample of consumers who are similar in age, income, and education to community bank customers. Effectiveness will be measured by how well a consumer can understand various dimensions of each loan by answering comprehension questions (e.g., interest rate, payment schedule, etc.) for various types of construction-to-permanent and construction loans they are presented. Per the recommendation of the CFPB, to ensure the effectiveness of both the survey instrument and the revised mortgage disclosure forms, ICBA's contractor will conduct pre-testing (or cognitive-testing) of both the survey and the disclosure forms.

Request for Comments: The CFPB published a 60-day Federal Register notice on May 22, 2025 (90 FR 21904) under Docket Number: CFPB-2025-0026. The CFPB is publishing this notice and soliciting comments on: (a) Whether the collection of information is necessary for the proper performance of the functions of the CFPB, including whether the information will have practical utility; (b) The accuracy of the CFPB's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be reviewed by OMB as part of its review of this request. All comments will become a matter of public record.

Anthony May,
Paperwork Reduction Act Officer, Consumer Financial Protection Bureau.

[FR Doc. 2026-01086 Filed 1-20-26; 8:45 am]

BILLING CODE 4810-25-P